DEPARTMENT OF ENERGY

Federal Energy Regulatory Commission

[Project No. 13303-000]

BPUS Generation Development, LLC; Notice of Preliminary Permit Application Accepted for Filing and Soliciting Comments, Motions To Intervene and Competing Applications

November 25, 2008.

On October 21, 2008, BPUS Generation Development, LLC filed an application, pursuant to section 4(f) of the Federal Power Act (FPA), proposing to study the feasibility of the Little Potlatch Creek Pumped Storage Project to be located in Latah and Nez Perce Counties, Idaho. The proposed project would be closed loop but would use initial and make-up water from the Clearwater River.

The proposed project would consist of: (1) An upper earthen dam with a height of 260 feet; (2) an upper reservoir with a surface area of 138 acres, a capacity of 8,775 acre-feet, and a maximum pool elevation of 2,850 feet msl; (3) a lower earthen dam with a height of 230 feet; (4) a lower reservoir with a surface area of 105 acres, a capacity of 8,775 acre-feet, and a maximum pool elevation of 1,490 feet msl; (5) four, 13 foot diameter, steel lined penstocks of various lengths; (6) an underground powerhouse containing 4 pump/turbine units with a total installed capacity of 1,340 MW; ( 7) a four mile long, 500 kV transmission line and; (8) appurtenant facilities. The proposed project would have an annual production of 3,830 GWh which would be sold to a local utility.

Applicant Contact: Jeffrey M. Auser, BPUS Generation Development, LLC, 225 Greenfield Parkway, Suite 201, Liverpool, NY 13088 (315) 461-8579.

FERC Contact: Steven Sachs (202) 502-8666.

Deadline for filing comments, motions to intervene, competing applications (without notices of intent), or notices of intent to file competing applications: 60 days from the issuance of this notice.

Comments, motions to intervene, notices of intent and competing applications may be filed electronically via the internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426.

For more information on how to submit these types of filings please go to the Commission's Web site located at http://www.ferc.gov/filing-comments.asp. More information about this project can be viewed or printed on the “eLibrary” link of the Commission's Web site at http://www.ferc.gov/docs-filing/elibrary.asp. Enter the docket number (P-13303) in the docket number field to access the document. For assistance, call toll-free 1-866-208-3372.

Kimberly D. Bose,
Secretary.

[FR Doc. E8-28577 Filed 12-1-08; 8:45 am]

BILLING CODE 6717-01-P